DEPARTMENT OF DEFENSE

Office of the Secretary

Proposed Information Collection; Comment Request

AGENCY: Office of the Under Secretary of Defense (Personnel and Readiness), DoD.

ACTION: Notice.

SUMMARY: In compliance with Section 3506(c)(2)(A) of the Paperwork Reduction Act of 1995, the Office of the Under Secretary of Defense (Personnel and Readiness) announces the following proposed reinstatement of a public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by February 27, 2001.

ADDRESSES: Written comments and recommendations on the proposed information collection should be sent to the Office of the Under Secretary of Defense for Personnel & Readiness, Program Integration, Legal Policy, ATTN: Lt Col Karen Kinlin, 4000 Defense Pentagon, Washington, DC 20301-4000.

FOR FURTHER INFORMATION CONTACT: To request more information on this proposed information collection or to obtain a copy of the proposal and associated collection instrument, please write to the above address or call at (703) 697-3387.

Title, Associated Form, and OMB Control Number: Indebtedness of Military Personnel—Involuntary Allotments; DD Form 2653; OMB Control Number 0704-0367.

Needs and Uses: Public Law 103-94, “The Hatch Act Reform Amendments of 1993,” directs the establishment of provisions for the involuntary allotment of the pay of a member of the Uniformed Services for indebtedness owed a third party based on a court order and as determined by competent military or executive authority to be in compliance with the Soldiers' and Sailors' Civil Relief Act of 1940. These provisions must also take into consideration the absence of a member of the Uniformed Services from appearance in a judicial proceeding if the absence results from the exigencies of military duty. The information collected hereby provides exigencies of military duty. The DD Form 2653, “Indebtedness of Military Personnel—Involuntary Allotments,” provides the respondent the opportunity to submit all information on one form.

Affected Public: Individuals or households; businesses or other for profit.

Annual Burden Hours: 4,657.

Number of Respondents: 9,314.

Responses per Respondent: One.

Average Burden per Response: 30 minutes.

Frequency: On occasion.

SUPPLEMENTARY INFORMATION:

Summary of Information Collection

This information is used by the Department of Defense to initiate an involuntary allotment from the pay of a member of the Uniformed Services for indebtedness owed a third party as determined by the final judgment of a court. This requirement was created by “The Hatch Act Reform Amendments of 1993,” Public Law 103-94. The DD Form 2653, “Involuntary Allotment Application,” requires the creditor to provide identifying information on the member of the Uniformed Services; certify a judgment was obtained and that the member's rights under the Soldier's and Sailors' Civil Relief Act were protected.

Dated: December 22, 2000.
Patricia L. Toppings,
Alternate OSD Federal Register Liaison Officer, Department of Defense.

[FR Doc. 00-33278 Filed 12-28-00; 8:45 am]

BILLING CODE 5001-10-M